DEPARTMENT OF HEALTH AND HUMAN SERVICES

National Institutes of Health

National Center For Research Resources; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which constitute a clearly unwarranted invasion of personal privacy.

Name of Committee: National Center for Research Resources Initial Review Group, Clinical, Research Review Committee. CRRC-Parent Meeting.

Date: October 16, 2007.

Time: 1 a.m. to 5 p.m.

Agenda: To review and evaluate grant applications.

Place: National Institutes of Health, 6701 Democracy Blvd., Bethesda, MD 20892 (Telephone Conference Call).

Contact Person: Mohan Viswanathan, PhD, Deputy Director, National Center For Research Resources, OR, National Institutes of Health, 6701 Democracy Blvd., 1 Democracy Plaza, Room 1084, MSC 4874, Bethesda, MD 20892-4874, 301-435-0829, mv10f@nih.gov.

Name of Committee: National Center for Research Resources Initial Review Group, Research Centers in Minority Institutions and Institutional Development Award Review Committee. RIRG-M Parent Meeting.

Date: October 23-24, 2007.

Time: 8 a.m. to 5 p.m.

Agenda: To review and evaluate grant applications.

Place: Doubletree Hotel Executive Meeting Center Bethesda, 8120 Wisconsin Ave, Bethesda, MD 20814.

Contact Person: Linda C. Duffy, PhD, Scientific Review Administrator, Office of Review, National Center For Research Resources, National Institutes of Health, 6701 Dem. Blvd., 1 Dem. Plaza, Rm. 1082, MSC 4874, Bethesda, MD 20892-4874, 301-435-0810, duffy@mail.nih.gov.

(Catalogue of Federal Domestic Assistance Program Nos. 93.306, Comparative Medicine; 93.333, Clinical Research; 93.371, Biomedical Technology; 93.389, Research Infrastructure, 93.306, 93.333, National Institutes of Health, HHS).

Dated: September 12, 2007.
Jennifer Spaeth,
Director, Office of Federal Advisory Committee Policy.

[FR Doc. 07-4630 Filed 9-18-07; 8:45 am]

BILLING CODE 4140-01-M